DEPARTMENT OF ENERGY

Federal Energy Regulatory Commission

Combined Notice of Filings #2

Take notice that the Commission received the following electric corporate filings:

Docket Numbers: EC17-143-000.

Applicants: Great Valley Solar 1, LLC, Great Valley Solar 2, LLC, Great Valley Solar 3, LLC.

Description: Supplement to July 31, 2017 Application for Authorization of Transaction Pursuant to Section 203 of the Federal Power Act of Great Valley Solar 1, LLC, et. al.

Filed Date: 8/31/17.

Accession Number: 20170831-5248.

Comments Due: 5 p.m. ET 9/11/17.

Take notice that the Commission received the following exempt wholesale generator filings:

Docket Numbers: EG17-148-000.

Applicants: HD Project One, LLC.

Description: Notice of Self-Certification of EG or FC of HD Project One, LLC.

Filed Date: 9/1/17.

Accession Number: 20170901-5164.

Comments Due: 5 p.m. ET 9/22/17.

Take notice that the Commission received the following electric rate filings:

Docket Numbers: ER17-2401-001.

Applicants: SP Decatur Parkway Solar, LLC.

Description: Tariff Amendment: Amendment of Application for MBR Authority and Initial Baseline Tariff Filing to be effective 9/1/2017.

Filed Date: 9/1/17.

Accession Number: 20170901-5091.

Comments Due: 5 p.m. ET 9/22/17.

Docket Numbers: ER17-2403-001.

Applicants: SP Pawpaw Solar, LLC.

Description: Tariff Amendment: Amendment of Application for MBR Authority and Initial Baseline Tariff Filing to be effective 9/1/2017.

Filed Date: 9/1/17.

Accession Number: 20170901-5096.

Comments Due: 5 p.m. ET 9/22/17.

Docket Numbers: ER17-2404-001.

Applicants: SP Sandhills Solar, LLC.

Description: Tariff Amendment: Amendment of Application for MBR Authority and Initial Baseline Tariff Filing to be effective 9/1/2017.

Filed Date: 9/1/17.

Accession Number: 20170901-5095.

Comments Due: 5 p.m. ET 9/22/17.

Docket Numbers: ER17-2416-000.

Applicants: Midcontinent Independent System Operator, Inc.

Description: Annual Calculation of the Cost of New Entry value (“CONE”) for each Local Resource Zone (“LRZ”) in the MISO Region of Midcontinent Independent System Operator, Inc.

Filed Date: 9/1/17.

Accession Number: 20170901-5104.

Comments Due: 5 p.m. ET 9/22/17.

Docket Numbers: ER17-2417-000.

Applicants: Great Valley Solar 3, LLC.

Description: Initial rate filing: Great Valley Solar 3, LLC LGIA Co-Tenancy Agreement Certificate of Concurrence to be effective 10/1/2017.

Filed Date: 9/1/17.

Accession Number: 20170901-5114.

Comments Due: 5 p.m. ET 9/22/17.

Docket Numbers: ER17-2418-000.

Applicants: Great Valley Solar 3, LLC.

Description: Initial rate filing: Great Valley Solar 3, LLC Shared Facilities Agreement Certificate of Concurrence to be effective 10/1/2017.

Filed Date: 9/1/17.

Accession Number: 20170901-5115.

Comments Due: 5 p.m. ET 9/22/17.

Docket Numbers: ER17-2419-000.

Applicants: Gateway Cogeneration 1, LLC.

Description: Request of Gateway Cogeneration 1, LLC for Limited Waiver of Tariff Provisions and Expedited Action.

Filed Date: 9/1/17.

Accession Number: 20170901-5117.

Comments Due: 5 p.m. ET 9/11/17.

Docket Numbers: ER17-2420-000.

Applicants: Alcoa Power Generating Inc.

Description: § 205(d) Rate Filing: Second Supplemental Transmission Services Agreement to be effective 7/1/2016.

Filed Date: 9/1/17.

Accession Number: 20170901-5121.

Comments Due: 5 p.m. ET 9/22/17.

Docket Numbers: ER17-2421-000.

Applicants: ISO New England Inc., New England Power Pool Participants Committee.

Description: § 205(d) Rate Filing: Revisions to Incorporate a Clustering Approach in the Interconnection Procedures to be effective 11/1/2017.

Filed Date: 9/1/17.

Accession Number: 20170901-5182.

Comments Due: 5 p.m. ET 9/22/17.

Docket Numbers: ER17-2422-000.

Applicants: Pacific Gas and Electric Company.

Description: § 205(d) Rate Filing: JPB Caltrain Supplement No. 3 under Master Agreement to be effective 9/5/2017.

Filed Date: 9/1/17.

Accession Number: 20170901-5189.

Comments Due: 5 p.m. ET 9/22/17.

Docket Numbers: ER17-2423-000.

Applicants: Puget Sound Energy, Inc.

Description: Initial rate filing: Amended and Restated Engineering and Procurement Agreement to be effective 9/1/2017.

Filed Date: 9/1/17.

Accession Number: 20170901-5194.

Comments Due: 5 p.m. ET 9/22/17.

Docket Numbers: ER17-2424-000.

Applicants: San Diego Gas & Electric Company.

Description: § 205(d) Rate Filing: SDGE TO Tariff Revisions to Appendices IV and IX to be effective 12/1/2017.

Filed Date: 9/1/17.

Accession Number: 20170901-5212.

Comments Due: 5 p.m. ET 9/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2017.
Nathaniel J. Davis, Sr.,
Deputy Secretary.

[FR Doc. 2017-19147 Filed 9-8-17; 8:45 am]

BILLING CODE 6717-01-P